DEPARTMENT OF TRANSPORTATION

Federal Aviation Administration

14 CFR Part 71

[Docket No. FAA-2010-0354 Airspace Docket No. 10-AAL-10]

Establishment of Class E Airspace; Port Clarence, AK

AGENCY: Federal Aviation Administration (FAA), DOT.

ACTION: Final rule; correction.

SUMMARY: This action corrects errors in the legal description and airport coordinates for Port Clarence Coast Guard Station (CGS) Airport, Port Clarence, AK, contained in a final rule that was published in the Federal Register.

DATES: Effective date 0901 UTC, January 13, 2011.

FOR FURTHER INFORMATION CONTACT: Martha Dunn, AAL-538G, Federal Aviation Administration, 222 West 7th Avenue, Box 14, Anchorage, AK 99513-7587; telephone number (907) 271-5898; fax: (907) 271-2850; e-mail: Martha.ctr.Dunn@faa.gov. Internet address: http://www.faa.gov/about/office_org/headquarters_offices/ato.service_units/systemops/fs/alaskan/rulemaking/.

SUPPLEMENTARY INFORMATION:

History

Federal Register Document FAA-2010-0354, Airspace Docket No. 10-AAL-10, published on Tuesday, October 12, 2010 [75 FR 62457] establishes Class E airspace at Port Clarence CGS Airport, Port Clarence, AK. The airspace description referred to the Anchorage Arctic CTA/FIR boundary as a limitation of the western boundary of the Class E airspace area. This reference is in error and is corrected by substituting the actual coordinates of the boundary. The airport reference point coordinates also contained an error caused by rounding. This action corrects that error. The correct full legal description is provided below.

Correction to Final Rule

Accordingly, pursuant to the authority delegated to me, the Class E airspace legal description for Port Clarence CGS Airport, published in the Federal Register, Tuesday, October 12, 2010 (75 FR 62457), FR Doc 2010-25479, page 62458, column 2 is corrected as follows:

AAL AK E5 Port Clarence, AK [Corrected]

Port Clarence, CGS Airport, AK

(Lat. 65°15′12″ N., Long. 166°51′27″ W.)

That airspace extending upward from 700 feet above the surface within a 6.4-mile radius of the Port Clarence CGS Airport, AK and within 1.5 miles either side of the 180° bearing from the Port Clarence CGS Airport, extending from the 6.4-mile radius to 13.2 miles south of the Port Clarence CGS Airport; and that airspace extending upward from 1,200 feet above the surface within a 73 mile radius of the Port Clarence CGS Airport, AK, excluding that portion extending west of a line from Lat. 64°48′20″ N., Long. 169°31′27″ W., to Lat. 60°00′00″ N., Long. 168°58′23″ W., to Lat. 66°05′44″ N., Long. 168°58′23″ W.

Issued in Anchorage, AK, on December 13, 2010.
James M. Miller,
Acting Manager, Alaska Flight Services Information Area Group.

[FR Doc. 2010-32293 Filed 12-23-10; 8:45 am]

BILLING CODE 4910-13-P